NUCLEAR REGULATORY COMMISSION

[Docket No. 52-008-ESP and ASLBP No. 04-822-02-ESP]

Atomic Safety and Licensing Board; In the Matter of Dominion Nuclear North Anna, LLC (Early Site Permit for North Anna ESP Site); Notice of Hearing (Application for Early Site Permit)

August 31, 2004.

Before Administrative Judges: Alex S. Karlin, Chairman, Dr. Richard F. Cole, Dr. Thomas S. Elleman.

This proceeding concerns the September 25, 2003 application of Dominion Nuclear North Anna, LLC (Dominion) for a 10 CFR Part 52 early site permit (ESP). The ESP application seeks approval of the site of the existing North Anna nuclear power facility in Louisa County, Virginia, for the possible construction of two or more new nuclear reactors. In response to a November 25, 2003 notice of hearing and opportunity to petition for leave to intervene, 68 FR 67489 (Dec. 2, 2003), on January 2, 2004, the Blue Ridge Environmental Defense League (BREDL), the Nuclear Information and Resource Service (NIRS), and Public Citizen (PC) (collectively the North Anna Petitioners) filed a request for hearing and petition to intervene contesting the Dominion ESP application. On March 2, 2004 the Commission referred the petition to the Atomic Safety and Licensing Board Panel to conduct any subsequent adjudication. CLI-04-08, 59 NRC 113, 118-19 (2004). On March 22, 2004, a three-member Atomic Safety and Licensing Board was established to adjudicate this ESP proceeding. 69 FR 15910 (Mar. 26, 2004).

On June 21-22, 2004, the Board conducted a two-day initial prehearing conference at the NRC's Rockville, Maryland headquarters facility during which it heard oral presentations regarding the standing of the ESP petitioners and the admissibility of their nine proffered contentions. Thereafter, in an August 6, 2004 issuance the Board noted that the petitioners have established the requisite standing to intervene in this proceeding and ruled that they have submitted two admissible contentions concerning the Dominion ESP application so that they can be admitted as parties to this proceeding. Dominion Nuclear North Anna, LLC (Early Site Permit for North Anna Clinton ESP Site), LBP-04-18, 60 NRC—(Aug. 6, 2004). On that same date the Board issued a Notice of Reconstitution establishing new members of this Board. 69 FR 49916 (Aug. 12, 2004).

In light of the foregoing, please take notice that a hearing will be conducted in this contested proceeding. This hearing will be governed by the hearing procedures set forth in 10 CFR Part 2, Subparts C and L, 10 CFR 2.300-2.390, 2.1200-2.1213. Further, in accordance with the December 2003 notice regarding the Dominion ESP application, 68 FR at 69489 and 10 CFR 52.21, the Licensing Board will:

(1) Consider whether the issuance of an ESP will be inimical to the common defense and security or to the health and safety of the public (Safety Issue 1);

(2) Determine whether, taking into consideration the site criteria contained in 10 CFR Part 100, a reactor, or reactors, having characteristics that fall within the parameters for the site, can be constructed and operated without undue risk to the health and safety of the public (Safety Issue 2); and

(3) Consider whether, in accordance with the requirements of subpart A of 10 CFR Part 51, the ESP should be issued as proposed.

Additionally, in accord with the December 2003 notice, the Board will:

(1) Determine whether the requirements of sections 102(2)(A), (C), and (E) of the National Environmental Policy Act of 1969 and 10 CFR Part 51, Subpart A, have been complied with in the proceeding;

(2) Independently consider the final balance among conflicting factors contained in the record of proceeding with a view to determining the appropriate action to be taken; and

(3) Determine, after considering reasonable alternatives, whether a license should be issued, denied, or appropriately conditioned to protect environmental values.

During the course of the proceeding, the Board may conduct an oral argument, as provided in 10 CFR 2.331, may hold additional prehearing conferences pursuant to 10 CFR 2.329, and may conduct evidentiary hearings in accordance with 10 CFR 2.327-2.328, 2.1206-2.1208. The public is invited to attend any oral argument, prehearing conference, or evidentiary hearing. Notices of those sessions will be published in the Federal Register and/or made available to the public at the NRC Public Document Room (PDR), located at One White Flint North, 11555 Rockville Pike (first floor), Rockville, Maryland, and through the NRC Web site, www.nrc.gov.

Additionally, as provided in 10 CFR 2.315(a), any person not a party to the proceeding may submit a written limited appearance statement. Limited appearance statements, which are placed in the docket for the hearing, provide members of the public with an opportunity to make the Board and/or the participants aware of their concerns about matters at issue in the proceeding. A written limited appearance statement can be submitted at any time and should be sent to the Office of the Secretary using one of the methods prescribed below:

Mail to: Office of the Secretary, Rulemakings and Adjudications Staff, U.S. Nuclear Regulatory Commission, Washington, DC 20555-0001.

Fax to: (301) 415-1101 (verification (301) 415-1966).

E-mail to: hearingdocket@nrc.gov.

In addition, a copy of the limited appearance statement should be sent to the Licensing Board Chairman using the same method at the address below:

Mail to: Administrative Judge Alex S. Karlin, Atomic Safety and Licensing Board Panel, Mail Stop T-3F23, U.S. Nuclear Regulatory Commission, Washington, DC 20555-0001.

Fax to: (301) 415-5599 (verification (301) 415-7550)

E-mail to: gpb@nrc.gov

At a later date, the Board may entertain oral limited appearance statements at a location or locations in the vicinity of the proposed Dominion site. Notice of any oral limited appearance sessions will be published in the Federal Register and/or made available to the public at the NRC PDR and on the NRC Web site, www.nrc.gov.

Documents relating to this proceeding are available for public inspection at the Commission's PDR or electronically from the publicly available records component of NRC's document system (ADAMS). ADAMS is accessible from the NRC Web site at www.nrc.gov/reading-rm/adams.html (the Public Electronic Reading Room). Persons who do not have access to ADAMS or who encounter problems in accessing the documents located in ADAMS should contact the NRC PDR Reference staff by telephone at 1-800-397-4209, 301-415-4737, or by e-mail to pdr@nrc.gov.

It is so ordered.

Dated: August 31, 2004, in Rockville, Maryland.
For the Atomic Safety and Licensing Board.*
Alex S. Karlin,
Chairman, Administrative Judge.

*Copies of this notice of hearing were sent this date by Internet e-mail transmission to counsel for (1) applicant DNNA; (2) the North Anna Intervenors; and (3) the NRC staff.

[FR Doc. 04-20197 Filed 9-3-04; 8:45 am]

BILLING CODE 7590-01-P